DEPARTMENT OF HOMELAND SECURITY

U.S. Immigration and Customs Enforcement

[OMB Control Number 1653-0038]

Agency Information Collection Activities: Student and Exchange Visitor Information System (SEVIS); Extension, With Change, of a Currently Approved Collection

AGENCY: U.S. Immigration and Customs Enforcement, Department of Homeland Security.

ACTION: 60-Day notice.

SUMMARY: The Department of Homeland Security (DHS), U.S. Immigration and Customs Enforcement (ICE) will be submitting the following information collection request to the Office of Management and Budget (OMB) for review and clearance in accordance with the Paperwork Reduction Act of 1995. The information collection is published in the Federal Register to obtain comments from the public and affected agencies.

DATES: Comments are encouraged and will be accepted until April 12, 2021.

ADDRESSES: All submissions received must include the OMB Control Number 1653-0038 in the body of the correspondence, the agency name and Docket ID ICEB-2021-0001. All comments received will be posted without change to http://www.regulations.gov, including any personal information provided.

(1) Online. Submit comments via the Federal eRulemaking Portal website at http://www.regulations.gov under e-Docket ID number ICEB-2021-0001.

FOR FURTHER INFORMATION CONTACT: If you have questions related to this collection, call or email Sharon Synder, Student and Exchange Visitor Program, 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Student and Exchange Visitor Information System (SEVIS).

(3) Agency form number, if any, and the applicable component of the Department of Homeland Security sponsoring the collection: Form I-17 and I-20; U.S. Immigration and Customs Enforcement.

(4) Affected public who will be asked or required to respond, as well as a brief abstract: Primary Non-profit institutions and individuals or households. SEVIS is an internet-based data entry, collection and reporting system. It collects information on SEVP-certified school via the Form I-17, “Petition for Approval of School for Attendance by Nonimmigrant Student,” and collects information on the F and M nonimmigrant students that the SEVP-certified schools admit into their programs of study via the Forms I-20s: “Certificate of Eligibility for Nonimmigrant (F-1) Students Status—For Academic and Language Students” and “Certificate of Eligibility for Nonimmigrant (M-1) Students Status—For Vocational Students”. Additionally, there is a revision to add a new data field for city of birth. This additional field allows SEVP to distinguish between applicants with the same name and country of birth. The additional field is not expected to increase the burden per response.

(5) An estimate of the total number of respondents: ICE estimates a total of 47,757 respondents.

(6) An estimate of the total public burden (in hours) associated with the collection: 1,019,757 annual burden hours.

Dated: February 4, 2021.
Scott Elmore,
PRA Clearance Officer.

[FR Doc. 2021-02647 Filed 2-8-21; 8:45 am]

BILLING CODE 9111-28-P